DEPARTMENT OF COMMERCE

International Trade Administration

Trade Mission to Mexico in Conjunction With Trade Winds Forum—The Americas

I. Mission Description

The United States Department of Commerce, International Trade Administration, U.S. and Foreign Commercial Service, is organizing a trade mission to Mexico, April 5-12, 2011, in conjunction with the Trade Winds Forum—The Americas business forum in Mexico City, Mexico. U.S. trade mission delegation members will arrive in Mexico City on or before April 5, 2011, to attend the opening ceremony of the Trade Winds Forum—The Americas. On April 11-12, 2011, trade mission participants will take part in business-to-business meetings in one (or two) of three select markets in Mexico: Mexico City, Guadalajara, and Monterrey.

The 2011 Trade Winds Forum—The Americas program is a 4-day event that includes a pan-American (North, Central and South) business forum consisting of regional and industry specific conference sessions as well as pre-arranged consultations with 14 U.S. Commercial Service Senior Commercial Officers representing commercial markets throughout the entire Western Hemisphere. The trade mission to Mexico will provide participants with the opportunity to conduct business-to-business meetings with firms in Mexico. The mission is open to U.S. companies from a cross section of industries with growing potential in Mexico, including, but not limited to, best prospects such as energy (mining, oil and gas, electric power generation, renewable), defense and aerospace, telecommunications and information technology, environmental technologies, medical equipment, safety and security equipment, automotive parts and service equipment, and logistics and transportation.

The combination of the Trade Winds Forum—The Americas business forum and the multi-sector trade mission to Mexico will provide participants with substantive knowledge and strategies for entering or expanding their business across Western Hemisphere markets and Mexico specifically.

II. Commercial Setting

As a neighboring country of the U.S. and member of North American Free Trade Agreement (NAFTA), Mexico is a natural market for U.S. exporters. U.S. trade with Mexico is increasing at a faster rate than our trade with many other important partners, including China. As outlined in the 2010 White House report to the President on the National Export Initiative (http://www.whitehouse.gov/sites/default/files/nei_report_9-16-10_full.pdf), Mexico is categorized as an immediate prospect for new to market companies in the next twelve months and beyond. Covering almost 1.2 million square miles, Mexico is one of the largest countries in Latin America. Its principal cities are: Mexico City, Monterrey, Guadalajara and Tijuana, all cities where the U. S. Commercial Service maintains offices to help American firms enter the Mexican market.

Mexico is the second largest market in the world for U.S. exports and the world's largest Spanish speaking country. Mexico has one of the highest GDPs in Latin America and the highest on a purchasing power basis among all the Spanish speaking countries of the western hemisphere. Given the magnitude of trade between the United States and Mexico, there are abundant opportunities for U.S. firms in Mexico. NAFTA, which was enacted in 1994 and created a free trade zone for Mexico, Canada and the United States, is the most outstanding feature in the U.S.-Mexico bilateral commercial relationship. In 2008, two-way U.S./Mexico trade exceeded $1 billion per day. U.S.-Mexico bilateral trade increased 317% from $88 billion in 1993 to $367 billion in 2008. While two way trade contracted by 17 percent in 2009 due to the global economic downturn, it has rebounded in the first half of 2010, up 32 percent from the same time period in 2009, and up 4.5 percent from the first half of 2008.

The Mexican economy contains rapidly developing modern industrial and service sectors, with increasing private ownership. Recent administrations have expanded competition in ports, railroads, telecommunications, electricity generation, natural gas distribution and airports, with the aim of upgrading infrastructure. As an export-oriented economy, more than 90% of Mexican trade is under free trade agreements (FTAs) with more than 40 countries, including the European Union, Japan, Israel, and much of Central and South America. Over fifty percent of Mexico's imports come from the United States.

The focus of the Trade Winds Forum—The Americas mission to Mexico will focus on three key industrialized cities in Mexico: Mexico City, Guadalajara and Monterrey. Under the direction of the Senior Commercial Officer and Regional Security Officer, precautions for security advisories will be monitored and addressed as deemed necessary.

Mexico City: Mexico City is one of the largest cities in the hemisphere and the world. Not only is this city of 20 million people the seat of the government, the capital is also Mexico's financial center, a manufacturing and distribution powerhouse and is centrally located in a major industrial area that includes Toluca, Puebla and Queretaro. Mexico City's Federal District produces 21.8% of the country's gross domestic product. According to a study conducted by PricewaterhouseCoopers, Mexico City had a GDP of $390 billion in 2008, ranking as the eighth richest city in the world after the greater areas of Tokyo, New York, Los Angeles, Chicago, Paris, London and Osaka/Kobe, and the richest in Latin America. Mexico City alone is the 30th largest economy in the world. There are opportunities in virtually every sector. Some of the most promising sectors in the Mexico City market include: Airport & ground support equipment, automotive parts & supplies, education & training services, environmental technologies & equipment, franchising, hotel & restaurant equipment, housing & construction, security & safety equipment, telecommunications equipment, transportation infrastructure equipment & services, and travel & tourism services.

Guadalajara: Mexico's second largest city is considered the “Silicon Valley” of Mexico and the de facto capital of western Mexico. In 2008, FDI Magazine ranked Guadalajara as the most business friendly city in Latin America. Guadalajara has the second largest economy and industrial infrastructure in Mexico, and contributes 37% to the state of Jalisco's total gross production. Its economic base is strong and well diversified. Guadalajara is the main producer of software, electronic and digital components in Mexico. Telecom and computer equipment from Guadalajara accounts for about a quarter of Mexico's electronics exports. The U.S. Commercial Service in Guadalajara has responsibility for 7 states in western Mexico (Aguascalientes, Colima, Guanajuato, Jalisco, Michoacan, Nayarit and Sinaloa). Guadalajara is a dynamic commercial center and home to GE, IBM, Intel, HP, Oracle, Flextronics and Jabil. Leading sectors include: Electronic components, agribusiness and food processing equipment, industrial process control equipment, packaging equipment, furniture manufacturing equipment, and high end building finishing materials.

Monterrey: Located in the northern state of Nuevo Leon, Monterrey is home to Mexico's 10 largest conglomerates. Strategically situated on the principal industrial corridor connecting the U.S. with Mexico's interior, Monterrey is a key distribution center that supports major industries such as glass, steel, autos and cement. Monterrey, a city of approximately 3.8 million people, is known for its “North American” culture and openness to business. A total of 13,251 companies in Monterrey produce 9.4 percent of Mexico's manufactured products and 30% of Mexico's manufactured exports. Monterrey accounts for about 95% of the State of Nuevo Leon's GDP and 8.6% of Mexico's GDP. Imports into this area are very high due to the area's strong manufacturing base, and geographical proximity to the U.S. In 2009, imports were estimated at USD 20 billion in goods alone, approximately 74% of which are of U.S. origin. With more than 30,000 firms, Nuevo Leon is the production leader in many important sectors of the Mexican economy including the following sectors: Glass containers; cement production; natural, artificial, and synthetic fiber production; beer production; ceramics production; basic steel production; and household appliances.

III. Mission Goals

The goal of the mission is to help participating U.S. companies find potential partners, agents, distributors, and joint venture partners in Mexico, laying the foundation for successful long-term ventures. The delegation will have access to Senior Commercial Officers and Commercial Specialists during the mission, learn about the expansive business opportunities in Mexico, and gain first-hand market exposure. U.S. delegation members already doing business in Mexico will have opportunities to further advance business relationships and transactions in that market.

IV. Mission Scenario

The mission will include pre-screened individual appointments with potential business partners; industry and country market briefings; logistical support; networking with leading industry and government officials; and registration for the Trade Winds Forum—The Americas, April 5-9, 2011, including business forum materials and admission to all Business Forum sessions and networking events.

U.S. delegation members will arrive in Mexico City on or before April 5, 2011, to attend the opening ceremony of the Trade Winds Forum—The Americas. The final days of the Forum, April 8-9, 2011 will be devoted to market briefings and consultations with Western Hemisphere-based Senior Commercial Officers. On April 11-12, 2011, mission participants will take part in business-to-business meetings in one (or two) of three select markets in Mexico: Mexico City, Guadalajara, and Monterrey. Specific market selection and location of business-to-business meetings will be based on the recommendations of Commercial Service—Mexico and in consultation with mission participants. Mission participants seeking business-to-business meetings in more than one market in Mexico will register using the multi-stop participation fee.

V. Mission Timetable

April 5, 2011—Arrive Mexico City, Mexico.

(Tuesday)—Trade Winds Forum—The Americas registration/briefing.

April 6, 2011—Trade Winds Forum—The Americas business forum.

April 7, 2011—Trade Winds Forum—The Americas business forum.

April 8-9, 2011—Trade Winds Forum—The Americas pre-arranged consultations with U.S. Commercial Service Senior Commercial Officers.

April 10, 2011—Trade Winds Forum—The Americas travel day to respective locations for business-to-business meetings.

April 11-12, 2011—Trade Mission featuring one-on-one business appointments with pre-screened private-sector companies in select Mexico cities: Mexico City (TW Business Forum location), Guadalajara or Monterrey.

VI. Participation Requirements

All parties interested in participating in the U.S. and Foreign Commercial Service Trade Mission to Mexico must complete and submit an application package for consideration by the Department of Commerce. All applicants will be evaluated on their ability to meet certain conditions and best satisfy the selection criteria as outlined below. A maximum of 50 companies will be selected to participate in the mission from the applicant pool on a first come, first served basis. U.S. companies already doing business with Mexico as well as U.S. companies seeking to enter Mexico for the first time may apply.

Fees and Expenses

After a company has been selected to participate on the mission, a payment to the Department of Commerce in the form of a participation fee is required. For one market stop (choice of one of the following markets: Mexico City, Guadalajara, or Monterrey), the participation fee will be $1,650 for a small or medium-sized enterprise (SME)* and $2,550 for large firms*. For two market stops (choice of two of the following markets: Mexico City, Guadalajara, or Monterrey), the participation fee will be $2,350 for a small or medium-sized enterprise (SME)* and $3,750 for large firms*. For companies requesting three or more markets, a fee of $700 (plus costs for driver/translator) will be added for each additional market requested. The fee for each additional firm representative (large firm or SME) participating in the mission is $650. Expenses for travel, lodging, most meals, and incidentals (e.g., local transportation) will be the responsibility of each mission participant. The mission registration fee also includes the Trade Winds Forum—The Americas Business Forum registration fee of $650.

Conditions for Participation

• An applicant must submit a completed and signed mission application and supplemental application materials, including adequate information on the company's products and/or services, primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

Selection Criteria for Participation

Selection will be based on the following criteria:

• Relevance of a company's business line to trade mission goals.

• Company's potential for business in Mexico.

• An SME is defined as a firm with 500 or fewer employees or that otherwise qualifies as a small business under SBA regulations (see http://www.sba.gov/services/contracting opportunities/sizestandardstopics/index.html). Parent companies, affiliates, and subsidiaries will be considered when determining business size. The dual pricing reflects the Commercial Service's user fee schedule that became effective May 1, 2008 (see http://www.export.gov/newsletter/march2008/initiatives.html for additional information).

Referrals from political organizations and any documents containing references to partisan political activities (including political contributions) will be removed from an applicant's submission and not considered during the selection process.

VII. Timeframe for Recruitment and Applications

Mission recruitment will be conducted in an open and public manner, including publication in the Federal Register, posting on the Commerce Department trade mission calendar, and other Internet web sites, press releases to the general and trade media, direct mail and broadcast fax, notices by industry trade associations and other multiplier groups, and announcements at industry meetings, symposia, conferences, and trade shows.

Recruitment for the mission will begin immediately and conclude no later than February 11, 2011. After February 11, 2011, companies will be considered only if space and scheduling constraints permit.

U.S. Contact Information

Shannon Christenbury, U.S. Export Assistance Center—Charlotte, shannon.christenbury@trade.gov, Charlotte, NC 28202, 704-333-4886 tel ext. 225.

Leslie Drake, U.S. Export Assistance Center—Charleston, Leslie.Drake@mail.doc.gov, Tel: 304-347-5123/Cell: 304-550-7754.

Debora Sykes, U.S. Export Assistant Center—Trenton, Debora.Sykes@mail.doc.gov, Tel: 856-722-1032/Cell: 609-571-7525, Fax: 856-722-0716.

Mexico Contact Information

Ann Bacher, Minister Counselor for Commercial Affairs, U.S. Commercial Service—Mexico, Ann.Bacher@trade.gov, Tel: 52-55-5140-2601/Fax: 52-55-5705-0065.

Clarance E. Burden,
US & FCS Senior Budget Analyst, Commercial Service Trade Missions Program.

[FR Doc. 2010-27250 Filed 10-27-10; 8:45 am]

BILLING CODE P